DEPARTMENT OF DEFENSE

Department of the Air Force

Notice of Intent To Prepare an Environmental Impact Statement for Authorizing Changes to the Falcon Launch Program at Vandenberg Space Force Base

AGENCY: Department of the Air Force, Department of Defense.

ACTION: Notice of intent.

SUMMARY: The Department of the Air Force (DAF) is issuing this Notice of Intent (NOI) to prepare an environmental impact statement (EIS) to evaluate the potential environmental effects associated with DAF's authorization of the redevelopment of Space Launch Complex (SLC)-6 to support Falcon 9 and Falcon Heavy operations, including launch and landing at Vandenberg Space Force Base (VSFB); DAF's authorization of an increase in Falcon 9 launches and landings at VSFB and downrange landings in the Pacific Ocean; and the Federal Aviation Administration's (FAA's) issuance or modification of a vehicle operator license to Space Exploration Technologies Corporation (SpaceX) for Falcon 9 and Falcon Heavy operations at VSFB and approval of related airspace closures. The FAA and United States Coast Guard (USCG) are cooperating agencies for this EIS. The Unique Identification Number for this EIS is EISX-007-USF-1728547807.

DATES: A public scoping period of 45 days will take place starting from the date of this NOI publication in the Federal Register. To ensure the DAF has sufficient time to consider public scoping comments during preparation of the Draft EIS, please submit comments within the 45-day scoping period. Comments will be accepted at any time during the environmental impact analysis process.

The DAF invites the public, stakeholders, and other interested parties to attend one or more of three in-person scoping meetings or the virtual scoping meeting. In-person meetings will be held in the evenings of January 14th, 15th, and 16th 2025. The exact location and scheduled time for public scoping meetings will be published in local newspapers (Lompoc Record, Los Angeles Times, Ojai Valley News, Santa Barbara Independent, Santa Maria Times, and Ventura County Star) and on the project website a minimum of 15 days prior to the meetings. A virtual meeting is scheduled for January 23rd, 2025, at 6 p.m. Pacific time. Information on how to attend the virtual meeting is available on the project website (www.VSFBFalconLaunchEIS.com). The meetings will provide an opportunity for attendees to learn more about the Proposed Action and Alternatives and provide an early and open process to assist the DAF and its Cooperating Agencies in determining the scope of issues for analysis in the EIS, including identifying significant environmental issues and those which can be eliminated from further study. Project team members will be available to answer questions about the Proposed Action, and there will also be an opportunity to provide oral and written comments. Scoping meeting materials will be provided in English and Spanish.

Publication of the Draft EIS is anticipated in March 2025, which will be followed by a 45-day comment period with public hearing opportunities. The Final EIS is anticipated in September 2025. The Record of Decision could be approved and signed no earlier than 30 days after the Final EIS.

ADDRESSES: The project website (www.VSFBFalconLaunchEIS.com) provides information related to the EIS, such as environmental documents, schedule, public meeting locations, and project details, as well as a comment form and information on how to comment. Comments may be submitted via the website comment form, emailed to info@VSFBFalconLaunchEIS.com, or mailed to ATTN: VSFB Falcon Launch EIS, c/o ManTech International Corporation, 420 Stevens Avenue, Suite 100, Solana Beach, CA 92075. Members of the public who want to receive future mailings informing them of the availability of the Draft EIS and Final EIS are encouraged to submit a comment that includes their name and email or postal mailing address. For other inquiries, including accommodations under the Americans with Disabilities Act, please contact Ms. Hilary Rummel, NEPA Project Manager at info@VSFBFalconLaunchEIS.com or VSFB Public Affairs office by phone at 1-805-606-3595.

SUPPLEMENTARY INFORMATION: The purpose of the Proposed Action is to increase the space launch mission capability of the U.S. Department of Defense (DOD) and other federal and commercial customers and to enhance the resilience and capacity of the nation's space launch infrastructure, while promoting a robust and competitive national space industry. As directed by U.S. policy (10 U.S.C. 2273, “Policy regarding assured access to space: national security payloads”; see also the White House's 2021 Space Priorities Framework), the United States seeks to provide greater launch and landing capabilities and infrastructure to support national security objectives, including deploying satellites and other space assets that enable intelligence, reconnaissance, and global security operations. The United States aims to promote a hybrid space architecture that diversifies access to space, reduces dependency on singular systems, and ensures rapid reconstitution capabilities.

The Proposed Action is needed to meet current and near-term U.S. Government space launch requirements from the DoD space launch range that supports launches centered at VSFB (Western Range), specifically for medium and heavy lift launches to polar, geostationary, and other orbits less reliably available elsewhere without compromising current launch capabilities. The Proposed Action is also needed to expand launch capacity by returning heavy lift launch capability to the Western Range. Finally, the proposed action is needed to fulfill (in part) 10 U.S.C. 2276(a), “Commercial space launch cooperation,” authorizing the Secretary of Defense to maximize the use of the capacity of the space transportation infrastructure of the DOD by the private sector in the U.S.; maximize the effectiveness and efficiency of the space transportation infrastructure of the DOD; reduce the cost of services provided by the DOD related to space transportation infrastructure and launch support facilities and space recovery support facilities; encourage commercial space activities by enabling investment by covered entities in the space transportation infrastructure of the DOD; and foster cooperation between DOD and covered entities. “Covered entity” means a non‐federal entity that is organized under the laws of the U.S. or of any jurisdiction within the U.S. and is engaged in commercial space activities.

Additionally, public interests largely intersect with the government interests identified, including greater mission capability for space exploration, and advancing reliable and affordable access to space which in turn advances the scientific and national security benefits of the U.S.Space Program.

The DAF has identified a Proposed Action, Alternative 1, and the No Action Alternative to be carried forward for analysis in the EIS. Under the Proposed Action, the DAF would authorize Falcon 9 and Falcon Heavy launch and landing operations at SLC-6, including modifications to SLC-6 required to support those operations and construction of landing zones. The DAF would also authorize an increase in Falcon 9 launches from SLC-4, which currently hosts Falcon 9 launch operations, and an increase in downrange landings on a droneship in the Pacific Ocean. The overall launch cadence for Falcon 9 and Falcon Heavy at both SLCs, combined, would be 100 launches per year. No modification of SLC-4 infrastructure is proposed. The FAA would issue or modify a vehicle operator license for Falcon 9 and Falcon Heavy operations and approve corresponding temporary airspace closures for operations. Under the Proposed Action, the existing horizontal integration facility (HIF) located north of SLC-6 would be modified into a hangar for use by SpaceX to support Falcon 9 and Falcon Heavy operations. Alternative 1 is the same as the Proposed Action except rather than modifying the existing HIF, DAF would authorize SpaceX to construct a new hangar south of the HIF and north of the launch pad at SLC-6. Under the No Action Alternative, the DAF would not authorize any Falcon 9 or Falcon Heavy launches or landing operations at, or modifications to, SLC-6, nor would the DAF authorize additional Falcon 9 launches from SLC-4. SpaceX would not apply for an FAA vehicle operator license for Falcon operations at SLC-6 or increased launches from SLC-4.

Potential effects may include noise, air quality, and hazardous material effects associated with launch and landing operations and construction, as well as effects on biological and cultural resources due to ground disturbance, and operational noise and vibrations. A full assessment of potential impacts to all relevant resource areas will be included in the EIS, including an analysis of environmental effects of the Proposed Action and Alternatives when added to the effects of other past, present, and reasonably foreseeable future actions. As part of that effort, the cumulative impacts analysis in the EIS will examine the effects of the Proposed Action that was the subject of the Environmental Assessment of Falcon 9 Cadence Increase at Vandenberg Space Force Base, California (EAXX-007-57-USF-1724161195), the final of which was published in November 2024. SpaceX would be required to obtain or modify an FAA vehicle operator license for Falcon 9 and Falcon Heavy at SLC-6, which could include launch, reentry, or both. A National Pollutant Discharge Elimination System permit may be required. The Proposed Action and Alternatives are within wetlands and floodplains; therefore, the Proposed Action is subject to the requirements and objectives of Executive Order 11988 “Floodplain Management” and Executive Order 11990 “Protection of Wetlands”, and this NOI initiates early public review and requests public comment on the Proposed Action and any practicable alternatives.

Scoping and Agency Coordination: Consultation will include, but not necessarily be limited to, consultation under section 7 of the Endangered Species Act, consultation under section 106 of the National Historic Preservation Act, to include consultation with federally recognized Native American Tribes, and consultation under the Coastal Zone Management Act. Regulatory agencies with special expertise in wetlands and floodplains, such as the U.S. Army Corps of Engineers, will be contacted and asked to comment. Comments are requested on alternatives and effects, as well as on relevant information, studies, or analyses with respect to the Proposed Action.

Tommy W. Lee,
Acting Air Force Federal Register Liaison Officer.

[FR Doc. 2024-29446 Filed 12-12-24; 8:45 am]

BILLING CODE 3911-44-P